ENVIRONMENTAL PROTECTION AGENCY

40 CFR Parts 61 and 63

[FRL-7153-2]

Approval of the Clean Air Act Section 111 and 112 Delegation of Authority Updates to the Washington State Department of Ecology, Benton Clean Air Authority, Northwest Air Pollution Authority, Puget Sound Clean Air Agency, and Spokane County Air Pollution Control Authority

AGENCY: Environmental Protection Agency.

ACTION: Final rule.

SUMMARY: Environmental Protection Agency, Region 10 (EPA) is providing public notice of actions which are already final. EPA updated delegation of authority for National Emission Standards for Hazardous Air Pollutants (NESHAP) to the Washington State Department of Ecology (Ecology), Benton Clean Air Authority (BCAA), Northwest Air Pollution Authority (NWAPA), Puget Sound Clean Air Agency (PSCAA), and Spokane County Air Pollution Control Authority (SCAPCA). EPA also delegated of authority for the Consolidated Air Rule (CAR) to Ecology, BCAA, and SCAPCA.

EPA is publishing informational tables in the regulations for NESHAPs and NESHAP source categories that show which subparts these agencies now have authority to implement and enforce. EPA is also publishing revisions to the names and addresses of Region 10 air agencies.

DATES: This rule is effective April 15, 2002.

ADDRESSES: Copies of information supporting this action are available for inspection during normal business hours at the following location: EPA, Office of Air Quality (OAQ-107), 1200 Sixth Avenue, Seattle, Washington 98101.

FOR FURTHER INFORMATION CONTACT: Tracy Oliver, Office of Air Quality (OAQ-107), EPA, Seattle, Washington, (206) 553-1172.

SUPPLEMENTARY INFORMATION:

Contents

I. Background and Purpose

a. What is the NESHAP program?

b. What is the Consolidated Air Rule (CAR)?

c. What is the purpose of delegating authority for NESHAPs and the CAR?

d. What is the background on delegation to these agencies?

e. How were these actions taken and why is this action being published?

II. Implications

a. What specific subparts were delegated?

b. What are the conditions of these delegations?

c. What does updated delegation mean for these agencies?

d. What does updated delegation mean for affected sources?

III. Summary

IV. Administrative Requirements

a. Executive Orders 12866 and 13045

b. Executive Order 13132

c. Executive Order 13084

d. Regulatory Flexibility Act

e. Unfunded Mandates

f. Submission to Congress and the Comptroller General

g. Petitions for Judicial Review

I. Background and Purpose

h. What is the NESHAP program?

Hazardous air pollutants are defined in the Clean Air Act (Act) as pollutants that threaten human health through inhalation or other type of exposure. These pollutants are commonly referred to as “air toxics” and are listed in Section 112(b)(1) of the Act.

National Emission Standards for Hazardous Air Pollutants (NESHAPs) control emissions of hazardous air pollutants from specific source categories and implement the requirements of Section 112 of the Act. These standards are found in 40 CFR parts 61 and 63.

Section 112(l) of the Act enables EPA to approve state and local air toxics programs or rules such that these agencies can accept delegation of authority for implementing and enforcing the NESHAPs. Typically, a state or local agency requests delegation based on federal rules adopted unchanged into state or local rules.

Pursuant to the authority of Section 112(l) of the Act, EPA previously delegated authority to Ecology, BCAA, NWAPA, PSCAA, and SCAPCA through a formal rule-making process. At the time of delegation, EPA also approved streamlined procedures for requesting and approving delegation of new or updated NESHAPs.

The streamlined process for updating delegation is as follows: (1) The requesting agency sends a letter to EPA asking for delegation of new and/or revised NESHAPS that have been adopted unchanged into their regulations; (2) EPA sends a letter of response granting this delegation request (or explaining why it cannot be granted); (3) the agency does not need to send a response back to EPA; (4) if EPA does not receive a negative response from the requesting agency within 10 days of the signature date of EPA's letter, then the updated delegation becomes final 10 days after the date of EPA's letter.

i. What is the Consolidated Air Rule (CAR)?

The Consolidated Federal Air Rule (CAR) is a pilot rulemaking originating from President Clinton's March 16, 1995 initiative to reinvent environmental regulations. This rule consolidates major portions of the following New Source Performance Standards (NSPS) and National Emission Standards for Hazardous Air Pollutants (NESHAP) applicable to storage vessels, process vents, transfer operations, and equipment leaks within the Synthetic Organic Chemical Manufacturing Industry (SOCMI): 40 CFR part 60, subparts A, Ka, Kb, VV, DDD, III, NNN, and RRR; 40 CFR part 61, subparts A, V, Y, and BB; and 40 CFR part 63, subparts A, F, G, and H.

The CAR gathers together applicable Federal SOCMI rules to form one integrated set of rules. It is an optional compliance alternative for SOCMI sources; sources may choose to comply with the consolidated rule or simply continue to comply with existing applicable rules. The intent of this consolidation is to improve understandability, reduce burden, clarify requirements, and improve implementation and compliance.

The CAR is not a new rule per se, but a repackaging of existing rules. It requires a separate delegation because it consists of new subparts in a new part of the CFR. Because it consolidates and streamlines existing rules—which may already be delegated—EPA can delegate the CAR with no additional burden other than notification. Consequently, EPA approved Ecology, BCAA, and SCAPCA's CAR delegation requests using the same streamlined approval procedures described above.

j. What is the purpose of delegating authority for NESHAPs and the CAR?

One of the goals of the Clean Air Act is to place state and local governments in positions of leadership for air pollution prevention and control. Consistent with the Act, the NESHAP program and the CAR allow EPA to transfer primary implementation and enforcement responsibility to state and local agencies, provided they request delegation and demonstrate adequate resources, procedures, and authority. As with all delegations, EPA retains authority under Section 113 of the Act to implement and enforce any federal air quality standard if needed, including NESHAPs and the CAR.

d. What is the background on delegation to these agencies?

In the past, EPA delegated authority to implement and enforce certain NESHAPs to Ecology, BCAA, NWAPA, PSCAA, and SCAPCA through formal rule-making. (For Ecology, BCAA, and SCAPCA see 66 FR 35115 and 66 FR 48221; for NWAPA and PSCAA see 63 FR 66054, 63 FR 7793, 64 FR 19719, 65 FR 10391, and 66 FR 14320) These delegations were based on EPA's determination that they have adequate resources and authority to carry-out this responsibility in a manner comparable to EPA.

Recently, all these agencies requested updated delegation of NESHAPs and some requested delegation of the CAR based on implementation of state or local rules that adopt new or more current federal rules by reference. EPA approved these requests because these agencies continue to meet the requirements for delegation.

e. How were these actions taken and why is this action being published?

The purpose of this notice is to notify the public of actions already taken by EPA to delegate new and more current NESHAP standards to Ecology, BCAA, NWAPA, PSCAA, SCAPCA and the CAR to Ecology, BCAA, and SCAPCA. These actions were taken by letter approval as follows:

Ecology—Letter from Ms. Barbara McAllister, Director, EPA, Region 10, Office of Air to Ms. Mary Burg, Program Manager, Air Quality Program, Ecology, signed February 8, 2002, effective February 18, 2002.

BCAA—Letter from Ms. Barbara McAllister, Director, EPA, Region 10, Office of Air to Dr. David Lauer, Executive Director, BCAA, signed February 8, 2002, effective February 18, 2002.

NWAPA—Letter from Ms. Barbara McAllister, Director, EPA, Region 10, Office of Air Quality to Mr. James Randles, Director, NWAPA, signed February 8, 2002, effective February 18, 2002.

PSCAA—Letter from Ms. Barbara McAllister, Director, EPA, Region 10, Office of Air to Mr. Dennis McLerran, Air Pollution Control Officer, PSCAA, signed February 8, 2002, effective February 18, 2002.

SCAPCA—Letter from Ms. Barbara McAllister, Director, EPA, Region 10, Office of Air to Mr. Eric P. Skelton, Director, SCAPCA, signed February 8, 2002, effective February 18, 2002.

These delegations were effective ten days after the signature date. If an agency did not agree to the terms of their delegation, they could submit a written Notice of Objection within 10 days and EPA would withdraw the delegation. No agency submitted a Notice of Objection.

II. Implications

a. What specific subparts were delegated?

Ecology's updated delegation of authority covers standards promulgated and revised as of the dates specified in WAC-173-400-075, amended on August 15, 2001. These are as follows: 40 CFR part 61 and Appendices in affect on February 20, 2001, except Subparts B, H, I, K, Q, R, T, W and M as it applies to nonmajor sources; 40 CFR part 63 and Appendices in effect on February 20, 2001, except Subparts C, E, and M as it applies to nonmajor sources; 40 CFR part 63 subpart MM in effect on March 13, 2001; and 40 CFR part 65 in effect December 14, 2000. New or revised NESHAP and CAR subparts that become effective after the dates cited here are not delegated to Ecology; these remain the responsibility of EPA.

BCAA's updated delegation of authority covers standards promulgated and revised as of the dates specified in WAC-173-400-075, amended on August 15, 2001. These are as follows: 40 CFR part 61 and Appendices in effect on February 20, 2001, except Subparts B, H, I, K, Q, R, T, and W; 40 CFR part 63 and Appendices in effect on February 20, 2001, except Subparts C, E, S, LL and M as it applies to nonmajor sources; 40 CFR part 65 in effect December 14, 2000. New or revised NESHAP and CAR subparts that become effective after the dates cited here are not delegated to BCAA; these remain the responsibility of EPA.

NWAPA's updated delegation of authority covers standards promulgated and revised before July 1, 2000, except as specified in NWAPA's Regulation Section 104.2, amended on June 14, 2001. The delegation excludes: 40 CFR part 61, Subparts B, H, I, K, Q, R, T, and W; and 40 CFR part 63, Subparts LL and S as it applies to Kraft and Sulfite Pulping Mills. New or revised NESHAPs that become effective after July 1, 2001 are not delegated to NWAPA; these remain the responsibility of EPA.

PSCAA's updated delegation of authority covers standards promulgated and revised prior to July 1, 2001 as specified in PSCAA Regulation I, Section 6.11, amended on September 13, 2001. The delegation excludes: 40 CFR part 61, Subparts B, H, I, K, Q, R, T, and W; and 40 CFR part 63, Subparts LL and S as it applies to Kraft and Sulfite Pulping Mills. New or revised NESHAPs that become effective after July 1, 2001 are not delegated to PSCAA; these remain the responsibility of EPA.

SCAPCA's updated delegation of authority covers standards promulgated and revised as of the dates specified in WAC-173-400-075, amended on August 15, 2001. These are as follows: 40 CFR part 61 and Appendices in effect on February 20, 2001, except Subparts B, H, I, K, Q, R, T, and W; 40 CFR part 63 and Appendices in effect on February 20, 2001 except Subparts C, E, LL, M as it applies to nonmajor sources, and S as it applies to Kraft and Sulfite Pulping Mills; 40 CFR part 65 in effect December 14, 2000. New or revised NESHAP and CAR subparts that become effective after the dates cited here are not delegated to SCAPCA; these remain the responsibility of EPA.

b. What are the conditions of these delegations?

These delegations are subject to all federal law, policy, guidance and determinations pursuant to 40 CFR parts 61, 63, and 65. Some authorities cannot be delegated and are retained by EPA. These include: (1) certain authorities in the General Provisions of Parts 61 and 63; (2) specific provisions within some Part 61 and 63 subparts; and (3) for those agencies receiving delegation of the CAR, 40 CFR part 65, § 65.8 and § 65.46 of subpart C, and § 65.102 of subpart F.

In general, EPA does not delegate any authorities that require implementation through formal rulemaking or where Federal overview is the only way to ensure national consistency in the application of the standards or requirements of the Act. Examples of the types of authorities EPA retains are: equivalency determinations, approval of alternative test methods, decisions where federal oversight is needed to ensure national consistency, and decisions that require rulemaking to implement. The authorities listed in the table below are the specific General Provision authorities that cannot be delegated to any state or local agency and are retained by EPA

Table 1.—Part 61 and 63 General Provisions Authorities That Cannot Be Delegated
Section | Authorities
61.04(b) | Waiver of Recordkeeping.
61.12(d)(1) | Approval of Alternative Means of Emission Limitation.
61.13(h)(1)(ii) | Approval of Major Alternatives to Test Methods.
61.14(g)(1)(ii) | Approval of Major Alternatives to Monitoring.
61.16 | Availability of Information.
61.16 | Availability of Information.
61.53(c)(4) | List of Approved Design, Maintenance, and Housekeeping Practices for Mercury Chloralki Plants.
63.6(g) | Approval of Alternative Non-Opacity Emission Standards.
63.6(h)(9) | Approval of Alternative Opacity Standard.
63.7(e)(2)(ii) and (f) | Approval of Major Alternative to Test Methods.
63.8(f) | Approval of Major Alternatives to Monitoring.
63.10(f) | Waiver of Recordkeeping—all.

The reader should refer to 40 CFR 63.90 as well as each agency's original delegation for more information about which General Provisions are delegated and which are reserved by EPA. For information about specific exclusions within a particular standard, the reader should refer to that specific subpart in 40 CFR parts 61, 63, and 65.

c. What does updated delegation mean for these agencies?

Ecology, BCAA, NWAPA, PSCAA, and SCAPCA are the primary implementation and enforcement authority for delegated standards. They are the recipient of notifications and reports and the point of contact for most questions and compliance issues. They work directly with owners and operators of affected facilities subject to delegated standards to ensure all required information is submitted to them. EPA ensures that this information is submitted to EPA upon request.

EPA requests that these agencies meet certain reporting requirements. For example, EPA requires submission of source data, compliance information, copies of determinations, copies of notifications pertaining to continuous opacity monitoring use, and copies of information about changes to test methods and monitoring. More detail about these requirements are provided in Ecology, BCAA, NWAPA, PSCAA, and SCAPCA's original delegations.

d. What does updated delegation mean for affected sources?

Sources who are subject to delegated NESHAPs or the CAR will send notifications and reports to their respective agency, except for notifications, reports, and requests that pertain to authorities that are not delegated. The later should be sent to EPA. (see above, “What are the conditions of these delegations?”)

III. Summary

This document provides public notice of updates to NESHAP and CAR delegations for Ecology, BCAA, NWAPA, PSCAA, and SCAPCA. These delegations are already final and were granted by letter approval from the Director, Office of Air Quality, EPA, Region 10, to the air program directors at Ecology, BCAA, NWAPA, PSCAA, and SCAPCA. These delegations are subject to all Federal law, policy, guidance and determinations issued pursuant to 40 CFR parts 61, 63, and 65. Copies of delegation letters can be obtained by contacting EPA at the address above.

IV. Administrative Requirements

a. Executive Orders 12866 and 13045

The Office of Management and Budget (OMB) has exempted this regulatory action from review under Executive Order 12866, entitled “Regulatory Planning and Review.”

This rule is not subject to Executive Order 13045, entitled, “Protection of Children from Environmental Health Risks and Safety Risks,” because it is not an “economically significant” action under Executive Order 12866.

b. Executive Order 13132

Federalism (64 FR 43255, August 10, 1999) revokes and replaces Executive Orders 12612 (Federalism) and 12875 (Enhancing the Intergovernmental Partnership). Executive Order 13132 requires EPA to develop an accountable process to ensure “meaningful and timely input by state and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by state and local governments, or EPA consults with state and local officials early in the process of developing the proposed regulation. The EPA also may not issue a regulation that has federalism implications and that preempts state law unless the Agency consults with state and local officials early in the process of developing the proposed regulation.

This rule does not have federalism implications. It will not have substantial direct effects on the States, on the relationship between the national government and the States, or on the distribution of power and responsibilities among the various levels of government, as specified in Executive Order 13132, because it merely approves a state program and rules implementing a Federal standard, and does not alter the relationship or the distribution of power and responsibilities established in the CAA. Thus, Executive Order 13132 does not apply to this rule.

Although Section 6 of the Executive Order does not apply to this rule, EPA did consult with representatives of state government in developing this rule, and this rule is in response to the State's delegation request.

c. Executive Order 13084

Under Executive Order 13084, EPA may not issue a regulation that is not required by statute, that significantly or uniquely affects the communities of Indian tribal governments, and that imposes substantial direct compliance costs on those communities, unless the Federal government provides the funds necessary to pay the direct compliance costs incurred by the tribal governments. If the mandate is unfunded, EPA must provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected and other representatives of Indian tribal governments “to provide meaningful and timely input in the development of regulatory policies on matters that significantly or uniquely affect their communities.”

This rule does not significantly or uniquely affect the communities of Indian tribal governments. This action does not involve or impose any requirements that affect Indian Tribes. Accordingly, the requirements of Section 3(b) of Executive Order 13084 do not apply to this rule.

d. Regulatory Flexibility Act

Under the Regulatory Flexibility Act (RFA), 5 U.S.C. 600 et seq., EPA must prepare a regulatory flexibility analysis assessing the impact of any rule on small entities. 5 U.S.C. 603 and 604. Alternatively, EPA may certify that the rule will not have a significant economic impact on a substantial number of small entities. Small entities include small businesses, small not-for-profit enterprises, and small government entities with jurisdiction over populations of less than 50,000.

Delegation of authority to implement and enforce unchanged federal standards under Section 112(l) of the CAA does not create any new requirements but simply transfers primary implementation authorities to the state (or local) agency. Therefore, because this action does not impose any new requirements, I certify that it does not have a significant impact on any small entities affected.

e. Unfunded Mandates

Under Section 202 of the Unfunded Mandates Reform Act of 1995 (“Unfunded Mandates Act”), signed into law on March 22, 1995, EPA must prepare a budgetary impact statement to accompany any proposed or final rule that includes a Federal mandate that may result in estimated annual costs to state, local, or tribal governments in the aggregate, or to private sector, of $100 million or more. Under Section 205, EPA must select the most cost-effective and least burdensome alternative that achieves the objectives of the rule and is consistent with statutory requirements. Section 203 requires EPA to establish a plan for informing and advising any small governments that may be significantly or uniquely impacted by the rule.

EPA has determined that the delegation action promulgated does not include a Federal mandate that may result in estimated annual costs of $100 million or more to either state, local, or tribal governments in the aggregate, or to the private sector. This Federal action approves pre-existing requirements under state or local law, and imposes no new Federal requirements. Accordingly, no additional costs to state, local, or tribal governments, or to the private sector, result from this action.

f. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major” rule as defined by 5 U.S.C. 804(2).

g. Petitions for Judicial Review

Under Section 307(b)(1) of the CAA, petitions for judicial review of this action must be filed in the United States Court of Appeals for the appropriate circuit by May 13, 2002. Filing a petition for reconsideration by the Administrator of this final rule does not affect the finality of this rule for the purposes of judicial review nor does it extend the time within which a petition for judicial review may be filed, and shall not postpone the effectiveness of such rule or action. This action may not be challenged later in proceedings to enforce its requirements (see Section 307(b)(2)).

List of Subjects

40 CFR Part 61

Environmental protection, Air pollution control, Arsenic, Asbestos, Benzene, Beryllium, Hazardous substances, Mercury, Radionuclides, Radon, Reporting and recordkeeping requirements, Uranium, Vinyl chloride.

40 CFR Part 63

Administrative practice and procedure, Air pollution control, Hazardous substances, Intergovernmental relations, Reporting and recordkeeping requirements.

Dated: February 20, 2002.
Ron Kreizenbeck,
Acting Regional Administrator, Region 10.

For the reasons stated in the preamble, the Environmental Protection Agency amends 40 CFR parts 61 and 63 as follows:

PART 61—[AMENDED]

1. The authority citation for Part 61 continues to read as follows:

Authority: 42 U.S.C. 7401 et seq.

Subpart A—General Provisions

2. Section 61.04 is amended by adding paragraph (b)(N); revising paragraphs (b)(C); (b)(MM) introductory text, (b)(MM)(i) through (vii); (b)(WW) and (c)(10) to read as follows:

§ 61.04 Addresses.

* * * * *

(b) * * *

(C) State of Alaska. (i) Alaska Department of Environmental Conservation (ADEC), 410 Willoughby Avenue, Suite 303, Juneau, AK 99801-1795, http://www.state.ak.us/local/akpages/ENV.CONSERV/home.htm.

(ii) See paragraph (c)(10) of this section for a table indicating the delegation status of National Emission Standards for Hazardous Air Pollutants for Region 10—Alaska, Idaho, Oregon, and Washington.

* * * * *

(N) State of Idaho. (i) Idaho Department of Environmental Conservation (IDEQ), 1410 N. Hilton, Boise, ID 83706, http://www2.state.id.us/deq/.

(ii) See paragraph (c)(10) of this section for a table indicating the delegation status of National Emission Standards for Hazardous Air Pollutants for Region 10—Alaska, Idaho, Oregon, and Washington.

* * * * *

(MM) State of Oregon. (i) Oregon Department of Environmental Quality (ODEQ), 811 SW Sixth Ave, Portland, OR 97204-1390, http://www.deq.state.or.us/.

(ii) Lane Regional Air Pollution Authority (LRAPA), 1010 Main Street, Springfield, Oregon 97477, http://www.lrapa.org.

(iii) See paragraph (c)(10) of this section for a table indicating the delegation status of National Emission Standards for Hazardous Air Pollutants for Region 10—Alaska, Idaho, Oregon, and Washington.

(iv)-(vii) [Reserved]

* * * * *

(WW) State of Washington. (i) Washington State Department of Ecology (Ecology), P.O. Box 47600, Olympia, WA 98504-7600, http://www.ecy.wa.gov/.

(ii) Benton Clean Air Authority (BCAA), 650 George Washington Way, Richland, WA 99352-4289, http://www.bcaa.net/.

(iii) Northwest Air Pollution Control Authority (NWAPA), 1600 South Second St., Mount Vernon, WA 98273-5202, http://www.nwair.org/.

(iv) Olympic Air Pollution Control Authority (OAPCA), 909 Sleater-Kinney Road S.E., Suite 1, Lacey, WA 98503-1128, http://www.oapca.org/.

(v) Puget Sound Clean Air Agency (PSCAA), 110 Union Street, Suite 500, Seattle, WA 98101-2038, http://www.pscleanair.org/.

(vi) Spokane County Air Pollution Control Authority (SCAPCA), West 1101 College, Suite 403, Spokane, WA 9920, http://www.scapca.org/.

(vii) Southwest Clean Air Agency (SWCAA), 1308 NE 134th St., Vancouver, WA 98685-2747, http://www.swcleanair.org/.

(viii) Yakima Regional Clean Air Agency (YRCAA), Larson Building, Suite 1016, 6 South 2nd St., Yakima WA 98901, http://co.yakima.wa.us/cleanair/default.htm.

(ix) See paragraph (c)(10) of this section for a table indicating the delegation status of National Emission Standards for Hazardous Air Pollutants for Region 10—Alaska, Idaho, Oregon, and Washington.

* * * * *

(c) * * *

(10) The following table lists the delegation status of specific Part 61 Subparts that have been delegated unchanged to state and local air pollution control agencies in Region 10. An “X” indicates the subpart has been delegated, subject to all the conditions and limitations set forth in federal law, regulations, policy, guidance, and determinations. Some authorities cannot be delegated and are retained by EPA. These include certain General Provisions authorities and specific parts of some standards. The dates noted at the end of this table indicate the effective dates of federal rules that have been delegated. Any amendments made to these rules after this effective date are not delegated.

Delegation Status for Part 61 Standards—Region 10 ¹
40 CFR Part 61, Subparts ² | ADEC ³ | IDEQ ⁴ | ODEQ ⁵ | LRAPA ⁶ | Ecology ⁷ | BCAA ⁸ | NWAPA ⁹ | OAPCA ¹⁰ | PSCAA ¹¹ | SCAPCA ¹² | SWAPCA ¹³ | YRCAA ¹⁴
A General Provisions ¹⁵ | X | ⁴ X |  |  | X | X | X | X | X | X | X | X
B Radon from Underground Uranium Mines
C Beryllium |  | ⁴ X |  |  | X | X | X | X | X | X | X | X
D Beryllium Rocket Motor Firing |  | ⁴ X |  |  | X | X | X | X | X | X
E Mercury | X | ⁴ X |  |  | X | X | X | X | X | X | X | X
F Vinyl Chloride |  | ⁴ X |  |  | X | X | X | X | X | X | X | X
H Emissions of Radionuclides other than Radon from Dept of Energy facilities
I Radionuclides from Federal Facilities other than Nuclear Regulatory Commission Licensees and not covered by Subpart H
J Equipment Leaks of Benzene | X | ⁴ X |  |  | X | X | X | X | X | X | X | X
K Radionuclides from Elemental Phosphorus Plants
L Benzene from Coke Recovery |  | ⁴ X |  |  | X | X | X | X | X | X | X | X
M Asbestos | ³ X | ⁴ X |  |  | ⁷ X | ⁸ X | X | ¹⁰ X | X | X | X | X
N Arsenic from Glass Plants |  | ⁴ X |  |  | X | X | X | X | X | X | X | X
O Arsenic from Primary Copper Smelters |  | ⁴ X |  |  | X | X | X | X | X | X | X | X
P Arsenic from Arsenic Production Facilities |  | ⁴ X |  |  | X | X | X | X | X | X | X | X
Q Radon from Dept of Energy facilities
R Radon from Phosphogypsum Stacks
T Radon from Disposal of Uranium Mill Tailings |  | ⁴ X |  |  |  |  |  |  |  |  |  |
V Equipment Leaks | X | ⁴ X |  |  | X | X | X | X | X | X | X | X
W Radon from Operating Mill Tailings
Y Benzene from Benzene Storage Vessels | X | ⁴ X |  |  | X | X | X | X | X | X | X | X
BB Benzene from Benzene Transfer Operations |  | ⁴ X |  |  | X | X | X | X | X | X | X | X
FF Benzene Waste Operations | X |  |  |  | X | X | X | X | X | X | X | X
¹ Table last updated on April 15, 2002.
² Any authority within any Subpart of this Part that is identified as not delegatable, is not delegated.
³ Alaska Department of Environmental Conservation (01/18/1997). Note: Alaska received delegation for § 61.145 and § 61.154 of Subpart M (Asbestos), along with other sections and appendices which are referenced in § 61.145, as § 61.145 applies to sources required to obtain an operating permit under Alaska's regulations. Alaska has not received delegation for Subpart M for sources not required to obtain an operating permit under Alaska's regulations.
⁴ Idaho Department of Environmental Quality (07/01/2000). Note: Delegation of these 40 CFR Part 61, Subparts applies only to those sources in Idaho required to obtain an operating permit under Title V of the Clean Air Act.
⁵ Oregon Department of Environmental Quality.
⁶ Lane Regional Air Pollution Authority.
⁷ Washington Department of Ecology (02/20/2001). Note: Delegation of 40 CFR Part 63, Subpart M applies only to sources required to obtain an operating permit under Title V of the Clean Air Act, including Hanford. (Pursuant to RCW 70.105.240, only Ecology can enforce regulations at Hanford).
⁸ Benton Clean Air Authority (02/20/2001). Note: Delegation of 40 CFR Part 63, Subpart M excludes Hanford, see footnote 7.
⁹ Northwest Air Pollution Authority (07/01/2000).
¹⁰ Olympic Air Pollution Control Authority (07/01/2000). Note: Delegation of 40 CFR Part 63, Subpart M applies only to sources required to obtain an operating permit under Title V of the Clean Air Act.
¹¹ Puget Sound Clean Air Agency (07/01/2001).
¹² Spokane County Air Pollution Control Authority (02/20/2001).
¹³ Southwest Air Pollution Control Authority (08/01/1998).
¹⁴ Yakima Regional Clean Air Authority (07/01/2000).
¹⁵ General Provisions Authorities which are not delegated include approval of major alternatives to test methods, approval of major alternatives to monitoring, and any sections in the subparts pertaining to approval of alternative standards (i.e., alternative means of emission limitations). For definitions of minor, intermediate, and major alternatives to test methods and monitoring, see 40 CFR 63.90.

PART 63—[AMENDED]

1. The authority citation for Part 63 continues to read as follows:

Authority: 42 U.S.C. 7401 et. seq.

Subpart E—Approval of State Programs and Delegation of Federal Authorities

2. Section 63.99 is amended by revising (a)(47)(i) to read as follows:

§ 63.99 Delegated Federal authorities.

(a) * * *

(47) Washington. (i) The following table lists the delegation status of specific part 63 Subparts that have been delegated to state and local air pollution control agencies in Washington. An “X” indicates the subpart has been delegated, subject to all the conditions and limitations set forth in Federal law, regulations, policy, guidance, and determinations. Some authorities cannot be delegated and are retained by EPA. These include certain General Provisions authorities and specific parts of some standards. The dates noted at the end of this table indicate the effective dates of Federal rules that have been delegated. Any amendments made to these rules after this effective date are not delegated.

Delegation Status for Part 63 Standards—State of Washington ¹
40 CFR Part 63, Subparts ² | Ecology ³ | BCAA ⁴ | NWAPA ⁵ | OAPCA ⁶ | PSCAA ⁷ | SCAPCA ⁸ | SWCAA ⁹ | YRCAA ¹⁰
A General Provisions ¹¹ | X | X | X | X | X | X | X | X
D Early Reductions | X | X | X | X | X | X | X | X
F HON-SOCMI | X | X | X | X | X | X | X | X
G HON-Process Vents | X | X | X | X | X | X | X | X
H HON-Equipment Leaks | X | X | X | X | X | X | X | X
I HON-Negotiated Leaks | X | X | X | X | X | X | X | X
L Coke Oven Batteries | X | X | X | X | X | X | X | X
M Perchloroethylene Dry Cleaning | X³ | X⁴ | X |  | X ⁷ | X ⁸ | X | X ¹⁰
N Chromium Electroplating | X | X | X | X | X | X | X | X
O Ethylene Oxide Sterilizers | X | X | X | X | X | X | X | X
Q Industrial Process Cooling Towers | X | X | X | X | X | X | X | X
R Gasoline Distribution | X | X | X | X | X | X | X | X
S Pulp and Paper ¹² | X |  | ⁵ | X⁶ | X⁷ | X⁸ | X⁹ | X¹⁰
T Halogenated Solvent Cleaning | X | X | X | X | X | X | X | X
U Polymers and Resins I | X | X | X | X | X | X | X | X
W Polymers and Resins II-Epoxy | X | X | X | X | X | X | X | X
X Secondary Lead Smelting | X | X | X | X | X | X | X | X
Y Marine Tank Vessel Loading | X | X | X |  | X | X | X
AA Phosphoric Acid Manufacturing Plants | X | X | X | X | X | X |  | X
BB Phosphate Fertilizers Production Plants | X | X | X | X | X | X |  | X
CC Petroleum Refineries | X | X | X | X | X | X | X | X
DD Off-Site Waste and Recovery | X | X | X | X | X | X | X | X
EE Magnetic Tape Manufacturing | X | X | X | X | X | X | X | X
GG Aerospace Manufacturing & Rework | X | X | X | X | X | X | X | X
HH Oil and Natural Gas Production Facilities | X | X | X | X | X | X |  | X
II Shipbuilding and Ship Repair | X | X | X | X | X | X | X | X
JJ Wood Furniture Manufacturing Operations | X | X | X | X | X | X | X | X
KK Printing and Publishing Industry | X | X | X | X | X | X | X | X
LL Primary Aluminum ¹³ | X
MM Chemical Recovery Combustion Sources at Kraft, Soda, Sulfite, and Stand-Alone Semichemical Pulp Mills ¹⁴ | X
OO Tanks—Level 1 | X | X | X | X | X | X |  | X
PP Containers | X | X | X | X | X | X |  | X
QQ Surface Impoundments | X | X | X | X | X | X |  | X
RR Individual Drain Systems | X | X | X | X | X | X |  | X
SS Closed Vent Systems, Control Devices, Recovery Devices and Routing to a Fuel Gas System or Process | X | X | X | X | X | X |  | X
TT Equipment Leaks—Control Level 1 | X | X | X | X | X | X |  | X
UU Equipment Leaks—Control Level 2 | X | X | X | X | X | X |  | X
VV Oil-Water Separators and Organic-Water Separators | X | X | X | X | X | X |  | X
WW Storage Vessels (Tanks)—Control Level 2 | X | X | X |  | X | X
YY Source Categories: Generic MACT | X | X | X |  | X | X
CCC Steel Pickling—HCl Process Facilities and Hydrochloric Acid Regeneration Plants | X | X | X |  | X | X
DDD Mineral Wool Production | X | X | X |  | X | X
EEE Hazardous Waste Combustors | X | X | X |  | X | X
GGG Pharmaceuticals Production | X | X | X |  | X | X
HHH Natural Gas Transmission and Storage Facilities | X | X | X |  | X | X
III Flexible Polyurethane Foam Production | X | X | X |  | X | X |  | X
JJJ Polymers and Resins IV | X | X | X |  | X | X | X
LLL Portland Cement Manufacturing | X | X | X |  | X | X
MMM Pesticide Active Ingredient Production | X | X | X |  | X | X
NNN Wool Fiberglass Manufacturing | X | X | X |  | X | X
OOO Manufacture of Amino Phenolic Resins | X | X | X |  | X | X
PPP Polyether Polyols Production | X | X | X |  | X | X
RRR Secondary Aluminum Production | X | X |  |  | X | X
TTT Primary Lead Smelting | X | X | X |  | X | X
VVV Publicly Owned Treatment Works | X | X | X |  | X | X
XXX Ferroalloys Production: Ferromanganese & Silicomanganese | X | X | X |  | X | X
CCCC Manufacture of Nutritional Yeast |  |  |  |  | X
GGGG Extraction of Vegetable Oil |  |  |  |  | X
VVVV Boat Manufacturing
¹ Table last updated on April 15, 2002. See 40 CFR 61.04(b)(WW) for agency addresses.
² Any authority within any subpart of this part that is identified as not delegatable, is not delegated.
³ Washington State Department of Ecology (03/13/2001 for MM, 02/20/2001 for all others). Note: delegation of subpart M applies only to those sources required to obtain an operating permit under Title V of the Clean Air Act.
⁴ Benton Clean Air Agency (02/20/2001). Note: delegation of subpart M applies only to those sources required to obtain an operating permit under Title V of the Clean Air Act.
⁵ Northwest Air Pollution Control Agency (07/01/2000). Note: delegation of subpart S applies to all applicable facilities and processes except Kraft and Sulfite Pulping Mills (see footnote 12).
⁶ Olympic Air Pollution Control Agency (07/01/2000). Note: delegation of subpart M applies only to those sources required to obtain an operating permit under Title V of the Clean Air Act; delegation of subpart S applies to all applicable facilities and processes except Kraft and Sulfite Pulping Mills (see footnote 12).
⁷ Puget Sound Clean Air Agency (07/01/2001). Note: delegation of subpart S applies to all applicable facilities and processes exept Kraft and Sulfite Pulping Mills (see footnote 12). For information about delegation of subpart M, see paragraph (a)(47)(ii) of this section.
⁸ Spokane County Air Pollution Control Agency (02/20/2001). Note: delegation of subpart M applies only to those sources required to obtain an operating permit under Title V of the Clean Air Act; delegation of subpart S applies to all applicable facilities and processes except Kraft and Sulfite Pulping Mills (see footnote 12).
⁹ Southwest Clean Air Agency (08/01/1998). Note: delegation of subpart S applies to all applicable facilities and processes except Kraft and Sulfite Pulping Mills (see footnote 12).
¹⁰ Yakima Regional Clean Air Authority (07/01/2000). Note: delegation of subpart M applies only to those sources required to obtain an operating permit under Title V of the Clean Air Act; delegation of subpart S applies to all applicable facilities and processes except Kraft and Sulfite Pulping Mills (see footnote 12).
¹¹ General Provisions Authorities which are not delegated include approval of major alternatives to test methods, approval of major alternatives to monitoring, and any sections in the subparts pertaining to approval of alternative standards (i.e., alternative means of emission limitations). For definitions of minor, intermediate, and major alternatives to test methods and monitoring, see § 63.90.
¹² Subpart S of this part as it pertains to Kraft and Sulfite Pulping Mills cannot be delegated to any local agencies in Washington. The Washington State Department of Ecology retains sole authority to regulate Kraft and Sulfite Pulping Mills, pursuant to Washington State Administrative Code 173-405-012 and 173-410-012.
¹³ Subpart LL of this part cannot be delegated to any local agencies in Washington because the Washington State Department of Ecology retains sole authority to regulate Primary Aluminum Plants, pursuant to Washington Administrative Code 173-415-010.
¹⁴ Subpart MM of this part cannot be delegated to any local agencies in Washington because the Washington State Department of Ecology retains sole authority to regulate Kraft and Sulfite Pulping Mills, pursuant to Washington State Administrative Code 173-405-012 and 173-410-012.

* * * * *

[FR Doc. 02-5603 Filed 3-13-02; 8:45 am]

BILLING CODE 6560-50-P